Proclamation 9123 of May 9, 2014

Peace Officers Memorial Day and Police Week, 2014

By the President of the United States of America

A Proclamation

Each year, America sets aside a week to salute the men and women who do the difficult, dangerous, and often thankless work of safeguarding our communities. Our Nation's peace officers embody the very idea of citizenship—that along with our rights come responsibilities, both to ourselves and to others. During Peace Officers Memorial Day and Police Week, we celebrate those who protect and serve us every minute of every day, and we honor the courageous officers who devoted themselves so fully to others that in the process they laid down their lives.

As we mourn the fallen, let us also remember how they lived. With unflinching commitment, they defended our schools and businesses. They guarded prisons; patrolled borders; and kept us safe at home, on the road, and as we went about our lives. To their families, we owe an unpayable debt. And to the men and women who carry their mission forward, we owe our unyielding support.

Our Nation has an obligation to ensure that as police officers face untold risks in the line of duty, we are doing whatever we can to protect them. This means providing all necessary resources so they can get the job done, hiring new officers where they are needed most, and investing in training to prepare those on the front lines for potentially deadly situations. It also means making reforms to curb senseless epidemics of violence that threaten law enforcement officers and haunt the neighborhoods they serve.

Just as police officers never let down their guard, we must never let slide our gratitude. We should extend our thanks not only in times of tragedy, but for every tragedy averted—every accident avoided because a patrol officer took a drunk driver off the streets, every child made safer because a criminal was brought to justice, every life saved because police officers raced to the scene. In other words, we must show our gratitude every day.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, BARACK OBAMA, President of the United States of America, do hereby proclaim May 15, 2014, as Peace Officers Memorial Day and May 11 through May 17, 2014, as Police Week. I call upon all Americans to observe these events with appropriate ceremonies and activities. I also call on Governors of the United States and the Commonwealth of Puerto Rico, officials of the other territories subject to the jurisdiction of the United States, and appropriate officials of all units of government, to direct that the flag be flown at half-staff on Peace Officers Memorial Day. I further encourage all Americans to display the flag at half-staff from their homes and businesses on that day.

IN WITNESS WHEREOF, I have hereunto set my hand this ninth day of May, in the year of our Lord two thousand fourteen, and of the Independence of the United States of America the two hundred and thirty-eighth.

[FR Doc. 2014-11306

Filed 5-13-14; 11:15 am]

Billing code 3295-F4